Proclamation 9515 of October 5, 2016

German-American Day, 2016

By the President of the United States of America

A Proclamation

For centuries, German immigrants have ventured to American shores for the same reasons as so many others—to pursue new lives in a land of opportunity and forge brighter futures for themselves and their families. These immigrants and their descendants have changed the course of our history and paved our country's path of progress, and on German-American Day, we recognize their role in building a stronger and more prosperous Nation for all our people.

From those who were among our earliest settlers and farmers to today's innovative leaders in business and public service, German Americans have shaped every sector of our society. More Americans can trace their roots to Germany than to any other nation, and elements of German heritage are embedded deeply in our country's character. German Americans have, throughout our history, proven that our diversity is one of our greatest strengths, and that no matter where we come from, as Americans we are united by the ideal that we are all created equal.

Today, the alliance between the United States and Germany is one of the closest the world has ever known. Our cooperation in striving to protect the security and sustainability of our planet is guided by the enduring friendship between our citizens and the experiences and values that bind us together. On this occasion, let us honor the achievements of German Americans by renewing our devotion to beliefs borne out of common experience—by creating opportunity that lifts up not just the few but the many, and by affirming the inherent dignity and equality of every human being.

NOW, THEREFORE, I, BARACK OBAMA, President of the United States of America, by virtue of the authority vested in me by the Constitution and the laws of the United States, do hereby proclaim October 6, 2016, as German-American Day. I encourage all Americans to learn more about the history of German Americans and reflect on the many contributions they have made to our Nation.

IN WITNESS WHEREOF, I have hereunto set my hand this fifth day of October, in the year of our Lord two thousand sixteen, and of the Independence of the United States of America the two hundred and forty-first.

[FR Doc. 2016-24744

Filed 10-7-16; 11:15 am]

Billing code 3295-F7-P